DEPARTMENT OF LABOR

Office of the Secretary

Submission for OMB Emergency Review; Comment Request

July 13, 2000.

The Department of Labor has submitted the following (see below) information collection request (ICR), utilizing emergency review procedures, to the Office of Management and Budget (OMB) for review and clearance in accordance with the Paperwork Reduction Act of 1995 (Pub. L. 104-13, 44 U.S.C. Chapter 35). OMB approval has been requested by July 25, 2000. A copy of this ICR, with applicable supporting documentation, may be obtained by calling the Department of Labor Departmental Clearance Officer, Ira L. Mills (202) 219-5095.

Comments and questions about the ICR listed below should be forwarded to the Office of Information and Regulatory Affairs, Attn: OMB Desk Officer for the Employment and Training Administration, Room 10235, Washington, DC 20503.

The Office of Management and Budget is particularly interested in comments which:

C. Evaluate whether the proposed collection of information is necessary for the proper performance of the functions of the agency, including whether the information will have practical utility;

C. Evaluate the accuracy of the agency's estimate of the burden of the proposed collection of information, including the validity of the methodology and assumptions used;

C. Enhance the quality, utility, and clarity of the information to be collected; and

C. Minimize the burden of the collection of information on those who are to respond, including through the use of appropriate automated, electronic, mechanical, or other technological collection techniques or other forms of information technology, e.g., permitting electronic submissions of responses.

Agency: Employment and Training Administration.

Title: Welfare to Work (WtW) Formula/Competitive Cumulative Quarterly Status Reports.

OMB Number: 1205-0385.

Affected Public: State, Local, or Tribal Government; Business or other for-profit; Not-for-profit institutions.

Requirements for ETA 9068 (formula) | 1st year | 2nd year | 3rd year | 4th year
Number of reports per entity per quarter | 1 | 1 | 2 | 2
Total number of reports per entity per year | 3 | 4 | 8 | 8
Number of minutes for recording/reporting per quarter per report | 40 | 80 | 120 | 80
Total number of hours required for recording/reporting per entity per year | 2 | 5 | 8 | 5
Number of entities reporting | 55 | 55 | 55 | 55
Total number of hours required for recording/reporting per year | 110 | 293 | 440 | 293

Note: Formula grants will only be issued in years 1 and 2; grantees may be eligible for a Bonus grant in year 3. All grant funds will be tracked in the same automated format. In year 1, formula grants will not be allocated until the 2nd quarter.

Requirements for ETA 9068-1 (competitive) | 1st year | 2nd year | 3rd year | 4th year
Number of reports per entity per quarter | 1 | 1 | 2 | 2
Total number of reports per entity per year | 3 | 4 | 4 | 4
Number of minutes for recording/reporting per quarter per report | 40 | 80 | 120 | 80
Total number of hours required for recording/reporting per entity per year | 2 | 5 | 8 | 5
Number of entities reporting | 200 | 200 | 200 | 200
Total number of hours required for recording/reporting per year | 200 | 1,067 | 1,600 | 1,067

Note: Competitive Grants to be awarded in years 1 and 2. Estimate 200 grants will be awarded to eligible applicants. All grant funds will be tracked in the same automated format. In year 1, competitive grants will not be let until the 2nd quarter.

Total Burden Cost (capital/startup): $0

Total Burden Cost (operating/maintaining): $0

Description: This request for approval of the WtW Formula and Competitive Cumulative Quarterly Status report formats is necessary so that the Department may collect statutorily required data from the States and other grant recipients on a quarterly basis. The information will provide a means for the Secretary of Labor to manage and evaluate the WtW program as well as to develop a formula for measuring State performance to be utilized in determining and awarding bonuses to States. These performance bonuses are authorized under the Act in Section 403(a)(5)(E).

Karin G. Kurz,
Acting Departmental Clearance Officer.

[FR Doc. 00-18092 Filed 7-17-00; 8:45 am]

BILLING CODE 4510-30-M